DEPARTMENT OF DEFENSE

Department of the Army

Change to the Military Freight Carrier Registration Program (FCRP) Open Season

AGENCY: Department of the Army, DOD

ACTION: Notice.

SUMMARY: The Military Surface Deployment and Distribution Command (SDDC) is providing notice that it will, effective 01 Mar 17, no longer accept domestic motor transportation service provider (TSP) registrations until further notice. This will affect domestic motor TSPs only (common, contract, logistics management, freight forwarders, and brokers). This does not apply to registration of air, rail, ocean, pipeline, and barge TSPs. This information is included in the Military Freight Traffic Unified Rules Publication-1 (MFTURP-1). There is not a timeframe currently scheduled for the next Open Season. Any future proposed Open Seasons will be advertised on the SDDC's public Web site at www.sddc.army.mil under Domestic Transportation.

ADDRESSES: Submit comments to Military Surface Deployment and Distribution Command, ATTN: Domestic Freight Services Branch, 1 Soldier Way, Scott AFB, IL 62225-5006. Request for additional information may be sent by email to: usarmy.scott.sddc.mbx.carrier-registrations@mail.mil.

FOR FURTHER INFORMATION CONTACT: Freight Carrier Registration Team, (618) 220-6470.

SUPPLEMENTARY INFORMATION:

References: Military Freight Traffic Unified Rules Publication-1 (MFTURP-1).

Background: SDDC is always analyzing the effects of mission requirements and carrier capacity to determine projected Open Seasons.

Miscellaneous: This announcement can be accessed via the SDDC Web site at: http://www.sddc.army.mil/.

Daniel J. Bradley,
Deputy Chief, Domestic Movement Support Division.

[FR Doc. 2017-04533 Filed 3-7-17; 8:45 am]

BILLING CODE 5001-03-P